DEPARTMENT OF COMMERCE

National Oceanic and Atmospheric Administration

50 CFR Part 648

[Docket No. 000223051-0051-01; I.D. 020300A]

Fisheries of the Northeastern United States; Deep-sea Red Crab Fishery; Correction

AGENCY: National Marine Fisheries Service (NMFS), National Oceanic and Atmospheric Administration (NOAA), Commerce.

ACTION: Advance notice of proposed rulemaking; notice of a control date for the purposes of controlling entry in the deep-sea red crab fishery; correction.

SUMMARY: On March 1, 2000, NMFS published an announcement that it is considering, and is seeking public comment on, proposed rulemaking to control future access to the deep-sea red crab (Chaceon quinquedens) resource if a management regime is developed and implemented under the Magnuson-Stevens Fishery Conservation and Management Act that limits the number of participants in the fishery. The announcement indicated that written comments may be sent to the New England Fishery Management Council at the address provided in the announcement and may also be submitted by facsimile (fax). However, an incorrect fax number was provided. This document corrects the error.

DATES: Written comments must be received on or before 5:00 p.m., local time, March 31, 2000.

ADDRESSES: Written comments should be sent to Paul J. Howard, Executive Director, New England Fishery Management Council, 50 Water Street, Mill 2, Newburyport, MA 01950. Mark the outside of the envelope, “Comments on Deep-sea Red Crab Control Date.” Comments may also be sent via fax to (978) 465-3116.

FOR FURTHER INFORMATION CONTACT: Regina L. Spallone, Fishery Policy Analyst, 978-281-9221, email: regina.l.spallone@noaa.gov

SUPPLEMENTARY INFORMATION: The notice of a control date for the purposes of controlling entry in the deep-sea red crab fishery was published in the Federal Register on March 1, 2000 (65 FR 11029), and invited public comment. The fax number identified in the announcement was incorrect and this action corrects the error.

Correction

Accordingly, the publication on March 1, 2000, of the advance notice of proposed rule for the deep-sea red crab fishery (I.D. 020300A), which was the subject of FR Doc. 00-4910, is corrected as follows:

On page 11029, column 3, ninth line in the ADDRESSES section is corrected to read as follows:

“facsimile (fax) to (978) 465-3116.”

Authority: 16 U.S.C. 1801 et seq.

Dated: March 9, 2000.
Penelope D. Dalton,
Assistant Administrator for Fisheries, National Marine Fisheries Services.

[FR Doc. 00-6715 Filed 3-16-00; 8:45 am]

BILLING CODE 3510-22-F